DEPARTMENT OF HEALTH AND HUMAN SERVICES

National Institutes of Health

Request for Information on Research Opportunities Related to the National Institutes of Health Scientific Workshop on Gender-Affirming Care for Transgender and Gender-Diverse Populations

AGENCY: National Institutes of Health, HHS.

ACTION: Notice.

SUMMARY: Through this Request for Information (RFI), the Sexual & Gender Minority Research Office (SGMRO) in the Division of Program Coordination, Planning, and Strategic Initiatives (DPCPSI), Office of the Director (OD), National Institutes of Health (NIH), invites feedback from stakeholders throughout the scientific research community, clinical practice communities, patient and family advocates, scientific or professional organizations, federal partners, internal NIH stakeholders, and other interested constituents on research opportunities related to the upcoming NIH Scientific Workshop on Gender-Affirming Care for Transgender and Gender-Diverse Populations. Current evidence-based clinical practices are available for health professionals to assist transgender and gender-diverse populations but additional research is needed to advance this area of care. The overarching purpose of this workshop is to identify and prioritize key infrastructure and research needed to further our understanding of gender affirming care for transgender and gender diverse populations across the life course. Various populations (e.g., people with HIV, people with other co-morbidities and complications, racial and ethnic minorities, etc.) and settings (academic medical centers, Federally Qualified Health Centers, community hospitals, HIV care settings, etc.) will be considered.

DATES: The SGMRO's Request for Information is open for public comment for a period of 4 weeks. Comments must be received on or before COB (5:00 p.m. ET) November 18, 2022, to ensure consideration. After the public comment period has closed, the comments received by SGMRO will be considered in a timely manner and shared with invitees to the Scientific Workshop on Gender-Affirming Care for Transgender and Gender-Diverse Populations.

ADDRESSES: Please see the supplementary information to view the draft domains and themes of focus for the Scientific Workshop on Gender-Affirming Care for Transgender and Gender-Diverse Populations. It is strongly encouraged to submit comments by email to SGMRO@nih.gov. Please include “RFI: Gender-Affirming Care Scientific Workshop” in the subject line.

FOR FURTHER INFORMATION CONTACT: Irene Avila, Ph.D., Assistant Director, Sexual & Gender Minority Research Office (SGMRO), irene.avila@nih.gov, (301) 594-9701.

SUPPLEMENTARY INFORMATION: Background: “Sexual and gender minority” is an overarching term that includes, but is not limited to, individuals who identify as lesbian, gay, bisexual, asexual, transgender, two-spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex. This Notice is in accordance with Section 404N of the 21st Century Cures Act (Pub. L. 114-255), the Director of NIH shall encourage research on SGM populations.

The Sexual and Gender Minority Research Office (SGMRO) (https://dpcpsi.nih.gov/sgmro) coordinates sexual and gender minority (SGM)-related research and activities by working directly with the NIH Institutes, Centers, and Offices. The Office was officially established in September 2015 within the NIH Division of Program Coordination, Planning, and Strategic Initiatives (DPCPSI) in the Office of the Director.

In September 2020, SGMRO posted the NIH Strategic Plan to Advance Research on the Health and Well-Being of Sexual and Gender Minorities FY 2021-2025 (https://dpcpsi.nih.gov/sites/default/files/SGMStrategicPlan_2021_2025.pdf). The current strategic plan provides NIH with a framework to improve the health of SGM populations through increased research and support of scientists conducting SGM-relevant research.

Request for Comments on Research Opportunities Related to the National Institutes of Health Scientific Workshop on Gender-Affirming Care for Transgender and Gender-Diverse Populations: The NIH is hosting a workshop to enhance our understanding of gender-affirming care for transgender and gender-diverse populations and to identify opportunities in gender-affirming care research, including but not limited to non-medical interventions. There are currently evidence-based clinical practices available for health professionals to assist transgender and gender-diverse populations but additional research is needed. The SGMRO invites input from stakeholders throughout the scientific research community, clinical practice communities, patient and family advocates, scientific or professional organizations, federal partners, internal NIH stakeholders, and other interested members of the public on research opportunities related to the four domains highlighted below. This input will serve as a valuable element in the development of the workshop and subsequent report, and the community's time and consideration are highly appreciated. Please provide comments across the following three themes:

• Pediatric and adolescent care

• Adult and older adult care

• Systemic and Institutional Policies

The NIH seeks comments and/or suggestions from all interested parties on key research opportunities in gender-affirming care for transgender and gender-diverse populations.

Responses to this RFI are voluntary. Do not include any proprietary, classified, confidential, trade secret, or sensitive information in your response. The responses will be reviewed by NIH staff, and individual feedback will not be provided to any responder. The Government will use the information submitted in response to this RFI at its discretion. The Government reserves the right to use any submitted information on public NIH websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, the NIH, or individual NIH Institutes, Centers, and Offices to provide support for any ideas identified in response to it. The Federal Government will not pay for the preparation of any information submitted or for the Government's use of such information.

No basis for claims against the U.S. Government shall arise as a result of a response to this RFI or from the Government's use of such information. Additionally, the Government cannot guarantee the confidentiality of the information provided.

Dated: October 11, 2022.
Tara A. Schwetz,
Acting Principal Deputy Director, National Institutes of Health.

[FR Doc. 2022-22553 Filed 10-17-22; 8:45 am]

BILLING CODE 4140-01-P